DEPARTMENT OF ENERGY

Federal Energy Regulatory Commission

Notice

April 3, 2002.

The following notice of meeting is published pursuant to section 3(a) of the Government in the Sunshine Act (Pub. L. No. 94-409), 5 U.S.C 552b:

AGENCY HOLDING MEETING: Federal Energy Regulatory Commission.

DATE AND TIME: April 10, 2002, 10 a.m.

PLACE: Room 2C 888 First Street, NE., Washington, DC 20426.

STATUS: Open.

MATTERS TO BE CONSIDERED: Agenda.

Note: Items listed on the Agenda may be deleted without further notice.

CONTACT PERSON FOR MORE INFORMATION: Magalie R. Salas, Secretary, Telephone (202) 208-0400, for a recording listing items stricken from or added to the meeting, call (202) 208-1627.

This is a list of matters to be considered by the Comission. It does not include a listing of all papers relevent to the items on the agenda; however, all public documents may be examined in the reference and information center.

789th—Meeting April 10, 2002, Regular Meeting 10 a.m.

Administrative Agenda

A-1.

Docket# AD02-1, 000, Agency Administrative Matters

A-2.

Docket# AD02-7, 000, Customer Matters, Reliability, Security and Market Operations

Markets, Tariffs and Rates—Electric

E-1.

Docket# RM01-12, 000, Electricity Market Design and Structure

E-2.

Docket# ER02-348, 000, Arizona Independent Scheduling Administrator Association

E-3.

Docket# ER02-1021, 000, Ontario Energy Trading International Corporation

E-4.

Docket# ER02-1043, 000, Entergy-Koch Trading, LP

E-5.

Docket# ER00-1608, 001, Southern Company Services, Inc.

Other#s ER00-2166, 001, Southern Company Services, Inc.

E-6. Docket# ER02-977, 000, Wisconsin Power & Light Company

E-7. Docket# ER01-1152, 000, PacifiCorp

Other#s ER01-1152, 001, PacifiCorp

ER01-1152, 002, PacifiCorp

ER01-1152, 003, PacifiCorp

E-8.

Docket# ER01-3022, 000, Cinergy Services, Inc.

Other#s ER01-3022, 001, Cinergy Services, Inc.; ER01-3022, 002, Cinergy Services, Inc.

E-9.

Docket# ER02-300, 000, Armstrong Energy Limited Partnership, LLLP

Other#s ER02-300, 001, Armstrong Energy Limited Partnership, LLLP; ER02-300, 002, Armstrong Energy Limited Partnership, LLLP; ER02-300, 003, Armstrong Energy Limited Partnership, LLLP; ER02-301, 000, Troy Energy, LLC; ER02-301, 001, Troy Energy, LLC; ER02-301, 002, Troy Energy, LLC; ER02-301, 003, Troy Energy, LLC; ER02-835, 000, Armstrong Energy Limited Partnership, LLLP; ER02-835, 001, Armstrong Energy Limited Partnership, LLLP; ER02-836, 000, Pleasants Energy, LLC; ER02-836, 001, Pleasants Energy, LLC; ER02-837, 000, Troy Energy, LLC; ER02-837, 001, Troy Energy, LLC

E-10.

Docket# ER00-1969, 009, New York Independent System Operator, Inc.;

Other#s ER00-1969, 012, New York Independent System Operator, Inc.; ER00-3591, 008, New York Independent System Operator, Inc.; ER00-3591, 010, New York Independent System Operator, Inc.

E-11.

Docket# ER02-1004, 000, New England Power Pool

E-12.

Docket# TX97-7, 000, Missouri Basin Municipal Power Agency

Other#s NJ98-1, 000, United States Department of Energy -Western Area Power Administration

E-13.

Omitted

E-14.

Docket# ER01-2536, 004, New York Independent System Operator, Inc.

E-15.

Omitted

E-16.

Omitted

E-17.

Docket# ER00-2067, 001, Boston Edison Company

Other#s ER00-2067, 002, Boston Edison Company

E-18.

Omitted

E-19.

Docket# EL00-99, 001, Maine Public Utilities Commission, United Illuminating Company and Bangor Hydro-Electric Company v. ISO New England, Inc.

Other#s EL00-100, 001, Maine Public Utilities Commission, United Illuminating Company and Bangor Hydro-Electric Company v. ISO New England, Inc.; EL00-112, 001, Maine Public Utilities Commission, United Illuminating Company and Bangor Hydro-Electric Company v. ISO New England, Inc.

E-20.

Docket# EL01-104, 002, Dynegy Power Marketing, Inc. v. Southwest Power Pool, Inc.

E-21.

Docket# EF98-5031, 001, United States Department of Energy -Western Area Power Administration

E-22.

Docket# EG02-97, 000, Southeast Chicago Energy Project, LLC

E-23.

Docket# EL02-23, 000, Consolidated Edison Company of New York, Inc. v. Public Service Electric and Gas Company, PJM Interconnection, L.L.C. and New York Independent System Operator, Inc.

E-24.

Docket# EL01-123, 000, Mirant Americas Energy Marketing, Inc. v. ISO New England, Inc.

Other#s EL00-62, 035, ISO New England, Inc.; EL00-62, 041, ISO New England, Inc.; EL00-62, 042, ISO New England, Inc.

E-25.

Omitted

E-26.

Docket# ER02-925, 000, Southern California Edison Company

Other#s ER02-925, 001, Southern California Edison Company

E-27.

Docket# ER96-1046, 000, Central Power and Light Company, West Texas Utilities Company, Public Service Company of Oklahoma and Southwestern Electric Power Company

Other#s EL96-42, 000, Central Power and Light Company, West Texas Utilities Company, Public Service Company of Oklahoma and Southwestern Electric Power Company; OA96-185, 000, Central Power and Light Company, West Texas Utilities Company, Public Service Company of Oklahoma and Southwestern Electric Power Company

E-28.

Docket# EL02-26, 000, Nevada Power Company and Sierra Pacific Power Company v. Duke Energy Trading and Marketing, L.L.C. Enron Power Marketing, El Paso Merchant Energy and American Electric Power Services Corporation

Other#s EL02-28, 000, Nevada Power Company and Sierra Pacific Power Company v. Duke Energy Trading and Marketing, L.L.C. Enron Power Marketing, El Paso Merchant Energy and American Electric Power Services Corporation; EL02-29, 000, Nevada Power Company v. Morgan Stanley Capital Group, Calpine Energy Services, Reliant Energy Services, Mirant Americas Energy Marketing, L.P., BP Energy Company and Allegheny Energy Supply Company, L.L.C.; EL02-30, 000, Nevada Power Company v. Morgan Stanley Capital Group, Calpine Energy Services, Reliant Energy Services, Mirant Americas Energy Marketing, L.P., BP Energy Company and Allegheny Energy Supply Company, L.L.C.; EL02-31, 000, Nevada Power Company v. Morgan Stanley Capital Group, Calpine Energy Services, Reliant Energy Services, Mirant Americas Energy Marketing, L.P., BP Energy Company and Allegheny Energy Supply Company, L.L.C.; EL02-32, 000, Nevada Power Company v. Morgan Stanley Capital Group, Calpine Energy Services, Reliant Energy Services, Mirant Americas Energy Marketing, L.P., BP Energy Company and Allegheny Energy Supply Company, L.L.C.; EL02-33, 000, Nevada Power Company and Sierra Pacific Power Company v. Duke Energy Trading and Marketing, L.L.C. Enron Power Marketing, El Paso Merchant Energy and American Electric Power Services Corporation; EL02-34, 000, Nevada Power Company v. Morgan Stanley Capital Group, Calpine Energy Services, Reliant Energy Services, Mirant Americas Energy Marketing, L.P., BP Energy Company and Allegheny Energy Supply Company, L.L.C.; EL02-38, 000, Nevada Power Company and Sierra Pacific Power Company v. Duke Energy Trading and Marketing, L.L.C. Enron Power Marketing, El Paso Merchant Energy and American Electric Power Services Corporation; EL02-39, 000, Nevada Power Company v. Morgan Stanley Capital Group, Calpine Energy Services, Reliant Energy Services, Mirant Americas Energy Marketing, L.P., BP Energy Company and Allegheny Energy Supply Company, L.L.C.; EL02-43, 000, Southern California Water Company v. Mirant Americas Energy Marketing, L.P.; EL02-56, 000, Public Utility District No. 1 of Snohomish County, Washington v. Morgan Stanley Capital Group, Inc.

E-29.

Docket# ER02-711, 000, American Electric Power Service Corporation

Miscellaneous Agenda

M-1.

Reserved

Markets, Tariffs and Rates—GAS

G-1.

Omitted

G-2.

Docket# RP02-200, 000, El Paso Natural Gas Company

G-3.

Docket# RP02-199, 000, Mississippi River Transmission Corporation

G-4.

Docket# RP00-476, 000, Southern Natural Gas Company

Other#s RP00-476, 002, Southern Natural Gas Company RP01-64, 000, Southern Natural Gas Company

G-5.

Docket# PR02-8, 000, Hill-Lake Gas Storage, L.P.

G-6.

Docket# CP01-70, 004, Columbia Gas Transmission Corporation

G-7.

Docket# RP01-35, 000, Norteno Pipeline Company

Other#s RP01-92, 000, Norteno Pipeline Company

G-8.

Docket# RP00-403, 000, Northern Border Pipeline Company

Other#s RP00-403, 001, Northern Border Pipeline Company; RP01-85, 000, Northern Border Pipeline Company; RP01-388, 000, Northern Border Pipeline Company

G-9.

Docket# RP00-321, 000, Destin Pipeline Company, L.L.C.

Other#s RP01-86, 000, Destin Pipeline Company, L.L.C.

G-10.

Omitted

G-11.

Docket# RP00-470, 000, Sea Robin Pipeline Company

Other#s RP00-612, 000, Sea Robin Pipeline Company

G-12.

Docket# RP00-487, 000, Tuscarora Gas Transmission Company

Other#s RP01-14, 000, Tuscarora Gas Transmission Company

G-13.

Omitted

G-14.

Omitted

G-15.

Docket# RP01-169, 002, Northern Natural Gas Company

Other#s RP02-62, 001, Northern Natural Gas Company

G-16.

Docket# RP02-201, 000, Colorado Interstate Gas Company

G-17.

Docket# PR01-14, 000, Enogex Inc.

Other#s PR01-14, 001, Enogex Inc.

G-18.

Docket# RP96-320, 053, Gulf South Pipeline Company, LP

Energy Projects—Hydro

H-1.

Docket# P-2107, 013, Pacific Gas and Electric Company

H-2.

Docket# P-2556, 040, FPL Energy Maine Hydro, LLC

H-3.

Docket# P-2232, 418, Duke Energy Corporation

Other#s P-2232, 408, Duke Energy Corporation

H-4.

Docket# P-2145, 040, Public Utility District No. 1 of Chelan County, Washington

H-5.

Docket# P-2543, 053, The Montana Power, L.L.C.

H-6.

Docket# P-2622, 009, International Paper Company and Turners Falls Hydro LLC

Other#s P-2622, 010, International Paper Company and Turners Falls Hydro LLC

Energy Projects—Certificates

C-1.

Docket# CP93-541, 010, Young Gas Storage Company, Ltd.

C-2.

Docket# CP97-169, 003, Alliance Pipeline L.P.

C-3.

Omitted

C-4.

Docket# CP01-153, 003, Tuscarora Gas Transmission Company

Other#s CP01-153, 002, Tuscarora Gas Transmission Company

C-5.

Docket# RM01-6, 000, Assignment of Upstream Capacity by Interstate Pipelines

C-6.

Docket# CP02-73, 000, Cargill, Incorporated v. Saltville Gas Storage Company, L.L.C.

C-7.

Docket# CP01-22, 003, North Baja Pipeline LLC

Other#s CP01-23, 002, North Baja Pipeline LLC; CP01-24, 003, North Baja Pipeline LLC; CP01-25, 003, North Baja Pipeline LLC;

Magalie R. Salas,
Secretary.

[FR Doc. 02-8500 Filed 4-4-02; 8:45 am]

BILLING CODE 6717-01-P